DEPARTMENT OF COMMERCE

National Oceanic and Atmospheric Administration

50 CFR Part 679

[Docket No. 241127-0305; RTID 0648-XE346]

Fisheries of the Exclusive Economic Zone Off Alaska; Bering Sea and Aleutian Islands; Proposed 2025 and 2026 Harvest Specifications for Groundfish

AGENCY: National Marine Fisheries Service (NMFS), National Oceanic and Atmospheric Administration (NOAA), Commerce.

ACTION: Proposed rule; harvest specifications and request for comments.

SUMMARY: NMFS proposes 2025 and 2026 harvest specifications, apportionments, and prohibited species catch allowances for the groundfish fisheries of the Bering Sea and Aleutian Islands (BSAI) management area. This action is necessary to establish harvest limits for groundfish during the 2025 and 2026 fishing years and to accomplish the goals and objectives of the Fishery Management Plan for Groundfish of the Bering Sea and Aleutian Islands Management Area (FMP). The 2025 harvest specifications supersede those previously set in the final 2024 and 2025 harvest specifications, and the 2026 harvest specifications will be superseded in early 2026 when the final 2026 and 2027 harvest specifications are published. The intended effect of this action is to conserve and manage the groundfish resources in the BSAI in accordance with the Magnuson-Stevens Fishery Conservation and Management Act (Magnuson-Stevens Act).

DATES: Comments must be received by January 3, 2025.

ADDRESSES: A plain language summary of this proposed rule is available at https://www.regulations.gov/docket/NOAA-NMFS-2024-0116. You may submit comments on this document, identified by NOAA-NMFS-2024-0116, by any of the following methods:

• Electronic Submission: Submit all electronic public comments via the Federal e-Rulemaking Portal. Visit https://www.regulations.gov and type NOAA-NMFS-2024-0116 in the Search box. Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

• Fax: (907) 586-7465; Attn: Gretchen Harrington.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of the Alaska Groundfish Harvest Specifications Final Environmental Impact Statement (Final EIS), Record of Decision (ROD) for the Final EIS, and the annual Supplementary Information Reports (SIR) to the Final EIS prepared for this action are available from https://www.regulations.gov. An updated 2025 SIR for the final 2025 and 2026 harvest specifications will be available from the same source.

The final 2023 Stock Assessment and Fishery Evaluation (SAFE) report for the groundfish resources of the BSAI, dated November 2023, is available from the North Pacific Fishery Management Council (Council) at 1007 West 3rd Ave., Suite 400, Anchorage, Alaska 99501, phone 907-271-2809, or from the NMFS Alaska Region website at https://www.fisheries.noaa.gov/alaska/population-assessments/north-pacific-groundfish-stock-assessments-and-fishery-evaluation. The 2024 SAFE report for the BSAI will be available from the same sources.

FOR FURTHER INFORMATION CONTACT: Steve Whitney, 907-586-7228.

SUPPLEMENTARY INFORMATION: Federal regulations at 50 CFR part 679 implement the FMP and govern the groundfish fisheries in the BSAI. The Council prepared the FMP, and NMFS approved it, under the Magnuson-Stevens Act. General regulations governing U.S. fisheries also appear at 50 CFR part 600.

The FMP and its implementing regulations require that NMFS, after consultation with the Council, specify annually the total allowable catch (TAC) for target species. The sum of TACs for all groundfish target species in the BSAI must be within the optimum yield (OY) range of 1.4 million to 2.0 million metric tons (mt) (see § 679.20(a)(1)(i)(A) and 679.20(a)(2)). Section 679.20(c)(1) further requires that NMFS publish proposed harvest specifications in the Federal Register and solicit public comments on proposed annual TACs for each target species and apportionments thereof; prohibited species catch (PSC) allowances; prohibited species quota (PSQ) reserves established by § 679.21; seasonal allowances of pollock, Pacific cod, and Atka mackerel TAC; American Fisheries Act allocations; Amendment 80 allocations; Community Development Quota (CDQ) reserve amounts established by § 679.20(b)(1)(ii); and acceptable biological catch (ABC) surpluses and reserves for CDQ groups and Amendment 80 cooperatives for flathead sole, rock sole, and yellowfin sole. The proposed harvest specifications set forth in tables 1 through 15 of this proposed rule satisfy these requirements.

In accordance with § 679.20(c)(3), NMFS will publish the final 2025 and 2026 harvest specifications after (1) considering comments received within the comment period (see DATES), (2) consulting with the Council at its December 2024 meeting, (3) considering information presented in the 2025 SIR to the Final EIS that assesses the need to prepare a Supplemental EIS (see ADDRESSES), and (4) considering information presented in the final 2024 SAFE report, including the 2024 Ecosystem Status Reports for both the Bering Sea and Aleutian Islands.

Other Actions Affecting or Potentially Affecting the 2025 and 2026 Harvest Specifications

Amendment 125 to the FMP: Pacific Cod Small Boat Access

NMFS is developing a proposed rule to implement Amendment 125 to the FMP, which, if approved, would redefine the BSAI Pacific cod jig sector during the A-season (January 1-April 30) to include hook-and-line or pot catcher vessels (CV) less than or equal to 55 feet (ft) (16.8 meters (m)) length overall (LOA). All harvest from the redefined A-season jig sector would be deducted from the jig sector's 1.4 percent allocation currently set in regulation (§ 679.20(a)(7)(ii)). In addition, the current hook-and-line or pot CV less than 60 feet (ft) (18.3 m) LOA sector would be redefined from January 1 to April 30 so that harvest only from hook-and-line or pot CVs with a LOA of 55 ft (16.8 m) and less than 60 ft LOA (55-59 ft) (16.8-18.0 m) would be deducted from the hook-and-line or pot CV less than 60 feet (ft) (18.3 m) LOA sector's 2.0 percent allocation currently set in regulation (§ 679.20(a)(7)(ii)). If amendment 125 and its implementing regulations are approved by the Secretary of Commerce, NMFS would incorporate the changes in a future harvest specifications action, and any such changes are anticipated for the 2026 and 2027 harvest specifications.

State of Alaska Guideline Harvest Levels

For 2025 and 2026, the State of Alaska Board of Fisheries (BOF) established the guideline harvest level (GHL) for vessels using pot, longline, jig, and hand troll gear in State waters in the State's Aleutian Islands subarea (AI) State-waters sablefish registration area that includes all State waters west of Scotch Cap Light (164°44.72′ W longitude) and south of Cape Sarichef (54°36′ N latitude). The AI GHL is set at 5 percent of the combined proposed Bering Sea (BS) subarea and AI ABC (1,233 mt). The State's AI sablefish registration area includes areas adjacent to parts of the Federal BS subarea. Since most of the State's 2025 and 2026 GHL sablefish fishery is expected to occur in State waters adjacent to the Federal BS subarea, the Council and its BSAI Groundfish Plan Team (Plan Team), Scientific and Statistical Committee (SSC), and Advisory Panel (AP) recommended that the sum of all State and Federal sablefish removals from the BS and AI not exceed the proposed ABC recommendations for sablefish in the BS and AI. Accordingly, the Council recommended, and NMFS proposes, that the 2025 and 2026 sablefish TACs in the BS and AI be reduced by at least 5 percent to account for the State's GHLs for sablefish caught in State waters.

For 2025 and 2026, the BOF established the GHL for vessels using pot gear in State waters in the BS equal to 13 percent of the Pacific cod ABC in the BS. The BS GHL will increase by one percent if 90 percent of the GHL is harvested by November 15 of the preceding year for 2 consecutive years but may not exceed 15 percent of the BS ABC. If 90 percent of the GHL is not harvested by November 15 of the preceding year for 2 consecutive years, the GHL will decrease by 1 percent, but the GHL may not decrease below 10 percent of the BS ABC. Based on harvest in 2023 and 2024, the GHL will be 13 percent in 2025. 13 percent of the proposed BS ABC is 19,614 mt. NMFS will account for any adjustment to the 2026 GHL in the final 2026 and 2027 harvest specifications. Also, for 2025 and 2026, the BOF established an additional GHL for vessels using jig gear in State waters in the BS equal to 45 mt of Pacific cod in the BS. The Council and its Plan Team, SSC, and AP recommended that the sum of all State and Federal waters Pacific cod removals from the BS not exceed the ABC recommendations for Pacific cod in the BS. Accordingly, the Council recommended, and NMFS proposes, that the 2025 and 2026 Pacific cod TACs in the BS account for the State's GHLs for Pacific cod caught in State waters in the BS.

For 2025 and 2026, the BOF established the GHL in State waters in the AI equal to 35 percent of the Pacific cod ABC in the AI. The AI GHL will increase annually by 4 percent of the AI ABC if 90 percent of the GHL is harvested by November 15 of the preceding year but may not exceed 39 percent of the AI ABC or 15 million pounds (6,804 mt). If 90 percent of the GHL is not harvested by November 15 of the preceding year for 2 consecutive years, the GHL will decrease by 4 percent, but the GHL may not decrease below 15 percent of the AI ABC. Based on harvest in 2023 and 2024, the GHL likely will remain at 35 percent in 2025. Thirty-five percent of the proposed AI ABC is 4,350 mt. NMFS will account for any adjustment to the 2025 GHL in the final 2025 and 2026 harvest specifications. The GHL for 2026 may change based on harvest during the preceding fishing years, and NMFS will account for any adjustment to the 2026 GHL in the final 2026 and 2027 harvest specifications. The Council and its Plan Team, SSC, and AP recommended that the sum of all State and Federal waters Pacific cod removals from the AI not exceed the ABC recommendations for Pacific cod in the AI. Accordingly, the Council recommended, and NMFS proposes, that the 2025 and 2026 Pacific cod TACs in the AI account for the State's GHL for Pacific cod caught in State waters in the AI.

Proposed ABC and TAC Harvest Specifications

In October 2024, the Council's SSC, its AP, and the Council reviewed the most recent biological and harvest information on the condition of the BSAI groundfish stocks. The Plan Team compiled and presented this information in the final 2023 SAFE report for the BSAI groundfish fisheries, dated November 2023 (see ADDRESSES). The final 2024 SAFE report, including individual stock assessments, will be available on the NMFS Alaska Region website (see ADDRESSES).

The proposed 2025 and 2026 harvest specifications are based on the final 2025 harvest specifications published in March 2024 (89 FR 17287, March 11, 2024), which were set after consideration of the most recent 2023 SAFE report that was presented at the November 2023 Plan Team meeting.

The SAFE report contains a review of the latest scientific analyses and estimates of each species' biomass and past, present, and possible future condition of the stocks and groundfish fisheries off Alaska. The SAFE report also contains an economic summary informed by the Economic SAFE and ecosystem information summarized from the Ecosystem Status Reports (ESR). The SAFE report provides information to the Council and NMFS for recommending and setting, respectively, annual harvest levels for each stock and documenting significant trends or changes in the resource, marine ecosystems, and fisheries over time.

The ESRs are combined into an appendix to the SAFE reports. The ESRs compile and summarize information about the status of the Alaska marine ecosystems for the Plan Team, SSC, AP, Council, NMFS, and the public, and they are updated annually. These ESRs include ecosystem report cards, ecosystem assessments, and ecosystem status indicators (i.e., climate indices, sea surface temperature), which together provide context for ecosystem-based fisheries management in Alaska. The ESRs inform stock assessments and are integrated into the annual harvest recommendations, primarily through inclusion in stock assessment-specific risk tables that inform the specification of ABC for target species. Also, the ESRs provide context for the SSC's recommendations for overfishing levels (OFL) and ABCs, as well as for the Council's TAC recommendations. The SAFE reports and the ESRs are presented at the October and December Council meetings before the SSC, AP, and the Council make groundfish harvest recommendations, and they aid NMFS in implementing these annual groundfish harvest specifications. An ESR is prepared for both the Eastern BS ecosystem and the AI ecosystem (as well as for the Gulf of Alaska ecosystem).

In addition to the 2023 SAFE report, the Plan Team, SSC, and Council also reviewed preliminary survey data from 2024 surveys, updates on ecosystem and socioeconomic profiles (ESPs) for certain species, initial updates on climate and oceanography for Alaska ecosystems, and summaries of potential changes to models and methodologies. From these data and analyses, the Plan Team and SSC recommend the proposed OFL and ABC for each species and species group. The proposed 2025 and 2026 harvest specifications in this action are subject to change in the final harvest specifications to be published by NMFS following the Council's December 2024 meeting.

In November 2024, the Plan Team will update the 2023 SAFE report to include new information collected during 2024, such as NMFS stock surveys, revised stock assessments, and catch data. The Plan Team will compile this information and present the draft 2024 SAFE report at the December 2024 Council meeting. At that meeting, the SSC and the Council will review the 2024 SAFE report, and the Council will approve the 2024 SAFE report for use in informing the Council's final recommendations to NMFS. The Council will consider information in the 2024 SAFE report, recommendations from the November 2024 Plan Team meeting and December 2024 SSC and AP meetings, public testimony, and relevant written comments in making its recommendations to NMFS for the final 2025 and 2026 harvest specifications. Pursuant to § 679.20(a)(2) and (3), the Council could recommend that NMFS adjust the final TACs if warranted based on the biological condition of groundfish stocks or a variety of socioeconomic considerations, or if required to cause the sum of TACs to fall within the OY range.

Potential Changes Between Proposed and Final Specifications

In previous years, the most significant changes (relative to the amount of assessed tonnage of fish) to the OFLs and ABCs from the proposed to the final harvest specifications have been based on the most recent NMFS stock surveys. These surveys provide updated estimates of stock biomass and spatial distribution, and inform changes to the models or the models' results used for producing stock assessments. Any changes to models used in stock assessments will be recommended by the Plan Team in November 2024, reviewed by the SSC in December 2024, and then included in the final 2024 SAFE report. Model changes can result in changes to final OFLs, ABCs, and TACs. The final 2024 SAFE report will include the most recent information, such as catch data.

The final harvest specification amounts for these stocks are not expected to vary greatly from these proposed harvest specification amounts. If the 2024 SAFE report indicates that the stock biomass trend is increasing for a species, then the final 2025 and 2026 harvest specifications may reflect an increase from the proposed harvest specifications. Conversely, if the 2024 SAFE report indicates that the stock biomass trend is decreasing for a species, then the final 2025 and 2026 harvest specifications may reflect a decrease from the proposed harvest specifications. In addition to changes driven by biomass trends, there may be changes in TACs due to the constraint of the OY for the BSAI. Under regulations and the FMP, TAC may not exceed ABC, but can be set equal to ABC. The regulations require the sum of all TACs for target species in the BSAI to be set to an OY between 1.4 and 2 million mt. Thus, the Council may be required to recommend TACs that are lower than the ABCs recommended by the Plan Team and the SSC, if setting all TACs equal to ABCs would cause the sum of TACs to exceed an OY of 2 million mt. Generally, total ABCs greatly exceed 2 million mt in years with a large pollock biomass. For both 2025 and 2026, NMFS anticipates that the sum of the final ABCs will exceed 2 million mt, and therefore TACs for some species likely will have to be set lower than ABCs to ensure the sum of TACs is between 1.4 and 2 million mt. Historically, the sum of the final TACs has been close to or equal to 2 million mt.

The proposed 2025 and 2026 OFLs and ABCs are based on the best available biological and scientific information, including projected biomass trends, information on assumed distribution of stock biomass, and revised technical methods used to calculate stock biomass. The FMP specifies a series of six tiers to define OFLs and ABCs based on the level of reliable information available to fishery scientists. Tier 1 represents the highest level of information quality available, while Tier 6 represents the lowest. The proposed 2025 and 2026 TACs are also based on the best available biological and socioeconomic information.

In October 2024, the SSC adopted the proposed 2025 and 2026 OFLs and ABCs recommended by the Plan Team for all groundfish. In making its recommendations, the Council adopted the SSC's OFL and ABC recommendations. The OFL and ABC amounts are unchanged from the final 2025 harvest specifications published in the Federal Register on March 11, 2024 (89 FR 17287). The sum of the proposed 2025 and 2026 ABCs for all assessed groundfish is 3,550,691 mt. The sum of the proposed TACs is 1,998,491 mt. NMFS has reviewed the recommendations of the SSC and Council for OFLs, ABCs, and TACs for target species and species groups in the BSAI as well as any other relevant information. Based on that review, NMFS is proposing the OFLs, ABCs, and TACs set forth in the tables of this proposed rule. NMFS concludes that these specifications are consistent with the Magnuson-Stevens Act, the FMP, and other applicable law, subject to further review and consideration after public comment.

Specification and Apportionment of TAC Amounts

The Council recommended proposed 2025 and 2026 TACs that are equal to the proposed ABCs for 2025 and 2026 BS and AI Greenland turbot, BSAI Kamchatka flounder, Central AI Atka mackerel, BS Pacific ocean perch, Central AI Pacific ocean perch, Eastern AI Pacific ocean perch, BS and Eastern AI blackspotted and rougheye rockfish, Central AI and Western AI blackspotted and rougheye rockfish, BSAI shortraker rockfish, and BS and AI “other rockfish.” The Council recommended proposed TACs less than the respective proposed ABCs for all other species and species groups. TACs for some species and species groups are reduced so that the overall TAC does not exceed the BSAI OY.

The proposed groundfish OFLs, ABCs, and TACs are subject to change pending the completion of the final 2024 SAFE report, public comment, and the Council's recommendations for the final 2025 and 2026 harvest specifications during its December 2024 meeting. These proposed amounts are consistent with the biological condition of groundfish stocks as described in the 2023 SAFE report. The proposed ABCs reflect harvest amounts that are less than the specified overfishing levels. The proposed TACs have been adjusted for other biological information and socioeconomic considerations, including maintaining the overall TAC within the required OY range. Pursuant to section 3.2.3.4.1 of the FMP, the Council could recommend that NMFS adjust the final TACs, if warranted on the basis of bycatch considerations, management uncertainty, or socioeconomic considerations; or if required in order to cause the sum of the TACs to fall within the OY range. Table 1 lists the proposed 2025 and 2026 OFL, ABC, TAC, initial TAC (ITAC), CDQ amounts, and nonspecified reserves for groundfish for the BSAI. The proposed apportionment of TAC amounts among fisheries and seasons is discussed below.

Table 1—Proposed 2025 and 2026 Overfishing Level (OFL), Acceptable Biological Catch (ABC), Total Allowable Catch (TAC), Initial TAC (ITAC), CDQ Reserve Allocation, and Nonspecified Reserves of Groundfish in the BSAI ¹
[Amounts are in metric tons]
Species | Area | Proposed 2025 and 2026: OFL | Proposed 2025 and 2026: ABC | Proposed 2025 and 2026: TAC | Proposed 2025 and 2026: ITAC ² | Proposed 2025 and 2026: CDQ 3 4 | Proposed 2025 and 2026: Nonspecified reserves
Pollock ⁴ | BS | 3,449,000 | 2,401,000 | 1,325,000 | 1,192,500 | 132,500 |
| AI | 53,030 | 43,863 | 19,000 | 17,100 | 1,900 |
| Bogoslof | 115,146 | 86,360 | 250 | 250 |  |
Pacific cod ⁵ | BS | 180,798 | 150,876 | 131,217 | 117,177 | 14,040 |
| AI | 18,416 | 12,431 | 8,080 | 7,216 | 865 |
Sablefish ⁶ | Alaska-wide | 55,317 | 47,350 | n/a | n/a | n/a |
| BS | n/a | 11,499 | 9,500 | 4,038 | 356 | 356
| AI | n/a | 13,156 | 8,440 | 1,794 | 158 | 158
Yellowfin sole | BSAI | 317,932 | 276,917 | 195,000 | 174,135 | 20,865 |
Greenland turbot | BSAI | 3,185 | 2,740 | 2,740 | 2,329 | n/a |
| BS | n/a | 2,310 | 2,310 | 1,964 | 247 | 99
| AI | n/a | 430 | 430 | 366 |  | 65
Arrowtooth flounder | BSAI | 104,270 | 88,548 | 14,000 | 11,900 | 1,498 | 602
Kamchatka flounder | BSAI | 8,687 | 7,360 | 7,360 | 6,256 |  | 1,104
Rock sole ⁷ | BSAI | 264,789 | 122,535 | 66,000 | 58,938 | 7,062 |
Flathead sole ⁸ | BSAI | 82,699 | 68,203 | 35,500 | 31,702 | 3,799 |
Alaska plaice | BSAI | 45,182 | 37,560 | 20,000 | 17,000 |  | 3,000
Other flatfish ⁹ | BSAI | 22,919 | 17,189 | 4,500 | 3,825 |  | 675
Pacific ocean perch | BSAI | 48,139 | 40,366 | 37,181 | 32,711 | n/a |
| BS | n/a | 11,430 | 11,430 | 9,716 |  | 1,715
| EAI | n/a | 7,828 | 7,828 | 6,990 | 838 |
| CAI | n/a | 5,423 | 5,423 | 4,843 | 580 |
| WAI | n/a | 15,685 | 12,500 | 11,163 | 1,338 |
Northern rockfish | BSAI | 22,838 | 18,685 | 15,000 | 12,750 |  | 2,250
Blackspotted/Rougheye rockfish ¹⁰ | BSAI | 813 | 607 | 607 | 516 |  | 91
| BS/EAI | n/a | 412 | 412 | 350 |  | 62
| CAI/WAI | n/a | 195 | 195 | 166 |  | 29
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 99,723 | 84,676 | 66,165 | 59,085 | 7,080 |
| BS/EAI | n/a | 37,049 | 30,000 | 26,790 | 3,210 |
| CAI | n/a | 14,877 | 14,877 | 13,285 | 1,592 |
| WAI | n/a | 32,750 | 21,288 | 19,010 | 2,278 |
Skates | BSAI | 44,203 | 36,625 | 30,361 | 25,807 |  | 4,554
Sharks | BSAI | 689 | 450 | 400 | 340 |  | 60
Octopuses | BSAI | 6,080 | 4,560 | 400 | 340 |  | 60
Total |  | 4,946,241 | 3,550,691 | 1,998,491 | 1,779,229 | 193,125 | 15,058
¹ These amounts apply to the entire BSAI management area unless otherwise specified. With the exception of pollock, and for the purpose of these harvest specifications, the BS subarea includes the Bogoslof District.
² Except for pollock, the portion of the sablefish TAC allocated to fixed gear, and the Amendment 80 species (Atka mackerel, flathead sole, rock sole, yellowfin sole, Pacific cod, and Aleutian Islands Pacific ocean perch), 15 percent of the TAC for each species and species group is put into a nonspecified reserve. The ITAC for these species is the remainder of the TAC after subtraction of the reserves. For pollock and Amendment 80 species, ITAC is the non-CDQ allocation of TAC (see footnote 3 and 4).
³ For the Amendment 80 species (Atka mackerel, flathead sole, rock sole, yellowfin sole, Pacific cod, and Aleutian Islands Pacific ocean perch), 10.7 percent of the TAC is reserved for use by CDQ participants (see § 679.20(b)(1)(ii)(C)). Twenty percent of the sablefish TAC allocated to fixed gear, 7.5 percent of the sablefish TAC allocated to trawl gear, and 10.7 percent of the TACs for Bering Sea Greenland turbot and BSAI arrowtooth flounder are reserved for use by CDQ participants (see § 679.20(b)(1)(ii)(B) and (D)). The 2026 fixed gear portion of the sablefish ITAC and CDQ reserve will not be specified until the final 2026 and 2027 harvest specifications. Aleutian Islands Greenland turbot, “other flatfish,” Alaska plaice, Bering Sea Pacific ocean perch, Kamchatka flounder, northern rockfish, shortraker rockfish, blackspotted and rougheye rockfish, “other rockfish,” skates, sharks, and octopuses are not allocated to the CDQ Program.
⁴ Under § 679.20(a)(5)(i)(A), the annual BS pollock TAC, after subtracting first for the CDQ directed fishing allowance (10 percent) and second for the incidental catch allowance (46,000 mt), is further allocated by sector for a pollock directed fishery as follows: inshore-50 percent; catcher/processor-40 percent; and motherships-10 percent. Section 679.20(a)(5)(iii)(B)(1) requires the AI pollock TAC to be set at 19,000 mt when the AI pollock ABC equals or exceeds 19,000 mt. Under § 679.20(a)(5)(iii)(B)(2), the annual AI pollock TAC, after subtracting first for the CDQ directed fishing allowance (10 percent) and second for the incidental catch allowance (3,000 mt), is allocated to the Aleut Corporation for a pollock directed fishery. The Bogoslof pollock TAC is set to accommodate incidental catch amounts.
⁵ The proposed BS Pacific cod TAC is set to account for the 13 percent of the BS ABC, plus 45 mt, for the State of Alaska's (State) guideline harvest levels in State waters of the BS. The proposed AI Pacific cod TAC is set to account for 35 percent of the AI ABC for the State guideline harvest level in State waters of the AI.
⁶ The sablefish OFL and ABC are Alaska-wide and include the Gulf of Alaska. The Alaska-wide sablefish OFL and ABC are included in the total OFL and ABC. The BS and AI sablefish TACs are set to account for the 5 percent of the BS and AI ABC for the State of Alaska's (State) guideline harvest level in State waters of the BS and AI.
⁷ “Rock sole” includes Lepidopsetta polyxystra (Northern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for Pacific ocean perch, dark rockfish, northern rockfish, shortraker rockfish, and blackspotted/rougheye rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district.)

Groundfish Reserves and the Incidental Catch Allowance for Pollock, Atka Mackerel, Flathead Sole, Rock Sole, Yellowfin Sole, and AI Pacific Ocean Perch

Section 679.20(b)(1)(i) requires NMFS to reserve 15 percent of the TAC for each target species (except for pollock, fixed gear allocation of sablefish, and Amendment 80 species) in a nonspecified reserve. Section 679.20(b)(1)(ii)(B) requires that NMFS allocate 20 percent of the fixed gear allocation of sablefish to the fixed gear sablefish CDQ reserve for each subarea. Section 679.20(b)(1)(ii)(D) requires that NMFS allocate 7.5 percent of the trawl gear allocation of sablefish for each subarea from the nonspecified reserve and 10.7 percent of BS Greenland turbot and BSAI arrowtooth flounder TACs to the respective CDQ reserves. Section 679.20(b)(1)(ii)(C) requires that NMFS allocate 10.7 percent of the TACs for Atka mackerel, AI Pacific ocean perch, yellowfin sole, rock sole, flathead sole, and Pacific cod (the Amendment 80 allocated species) to the respective CDQ reserves.

Sections 679.20(a)(5)(i)(A) and 679.31(a) require allocation of 10 percent of the BS pollock TAC to the pollock CDQ directed fishing allowance (DFA). Sections 679.20(a)(5)(iii)(B)(2)(i) and 679.31(a) require 10 percent of the AI pollock TAC be allocated to the pollock CDQ DFA. The entire Bogoslof District pollock TAC is allocated as an incidental catch allowance (ICA) pursuant to § 679.20(a)(5)(ii) because the Bogoslof District is closed to directed fishing for pollock by regulation (§ 679.22(a)(7)(B)). With the exception of the fixed gear sablefish CDQ reserve, the regulations do not further apportion the CDQ reserves by gear.

Pursuant to § 679.20(a)(5)(i)(A)(1), NMFS proposes a pollock ICA of 46,000 mt of the BS pollock TAC after subtracting the 10 percent CDQ DFA. This allowance is based on NMFS's examination of the pollock incidentally retained and discarded catch, including the incidental catch by CDQ vessels, in target fisheries other than pollock in recent years. Pursuant to § 679.20(a)(5)(iii)(B)(2)(i) and (ii), NMFS proposes a pollock ICA of 3,000 mt of the AI pollock TAC after subtracting the 10 percent CDQ DFA. This allowance is based on NMFS's examination of the pollock incidental catch, including the incidental catch by CDQ vessels, in target fisheries other than pollock in recent years.

After subtracting the 10.7 percent CDQ reserve and pursuant to § 679.20(a)(8) and (10), NMFS proposes ICAs of 2,000 mt of flathead sole, 3,000 mt of rock sole, 2,000 mt of yellowfin sole, 10 mt of Western Aleutian district Pacific ocean perch, 60 mt of Central Aleutian district Pacific ocean perch, 100 mt of Eastern Aleutian district Pacific ocean perch, 20 mt of Western Aleutian district Atka mackerel, 100 mt of Central Aleutian district Atka mackerel, and 800 mt of Eastern Aleutian district and BS Atka mackerel. These ICAs are based on NMFS's examination of the incidental catch in other target fisheries in recent years.

The regulations do not designate the remainder of the nonspecified reserve by species or species group. Any amount of the reserve may be apportioned to a target species that contributed to the nonspecified reserve during the year, provided that such apportionments are consistent with § 679.20(a)(3) and do not result in overfishing (see § 679.20(b)(1)(i)). In the final 2025 and 2026 harvest specifications, NMFS will evaluate whether any apportionments are necessary and may apportion from the nonspecified reserve to increase the ITAC for any target species that contributed to the reserve.

Allocations of Pollock TAC Under the American Fisheries Act

Section 679.20(a)(5)(i)(A) requires that BS pollock TAC be apportioned as a DFA, after subtracting 10 percent for the CDQ Program and 46,000 mt for the ICA, as follows: 50 percent to the inshore sector, 40 percent to the catcher/processor (CP) sector, and 10 percent to the mothership sector. In the BS, 45 percent of the DFAs are allocated to the A season (January 20 to June 10), and 55 percent of the DFAs are allocated to the B season (June 10 to November 1) (§§ 679.20(a)(5)(i)(B)(1) and 679.23(e)(2)). The AI directed pollock fishery allocation to the Aleut Corporation is the amount of pollock TAC remaining in the AI after subtracting 1,900 mt for the CDQ DFA (10 percent), and 3,000 mt for the ICA (§ 679.20(a)(5)(iii)(B)(2)). In the AI, the total A season apportionment of the pollock TAC (including the AI directed fishery allocation, the CDQ DFA, and the ICA) may not exceed 40 percent of the ABC for AI pollock, and the remainder of the pollock TAC is allocated to the B season (§ 679.20(a)(5)(iii)(B)(3)). Table 2 lists these proposed 2025 and 2026 amounts. Within any fishing year, any underharvest of a seasonal allowance may be added to a subsequent seasonal allowance (§ 679.20(a)(5)(i)(B)(2) and 679.20(a)(5)(iii)(B)(3)(iii)).

Section 679.20(a)(5)(iii)(B)(6) sets harvest limits for pollock in the A season (January 20 to June 10) in Areas 543, 542, and 541. In Area 543, the A season pollock harvest limit is no more than 5 percent of the AI pollock ABC. In Area 542, the A season pollock harvest limit is no more than 15 percent of the AI pollock ABC. In Area 541, the A season pollock harvest limit is no more than 30 percent of the AI pollock ABC.

Section 679.20(a)(5)(i)(A)(4) includes several specific requirements regarding BS pollock allocations. First, it requires that 8.5 percent of the pollock allocated to the CP sector be available for harvest by American Fisheries Act (AFA) catcher vessels (CVs) with CP sector endorsements, unless the Regional Administrator receives a cooperative contract that allows the distribution of harvest among AFA CPs and AFA CVs in a manner agreed to by all members of the CP sector cooperative(s). Second, AFA CPs not listed in the AFA are limited to harvesting no more than 0.5 percent of the pollock allocated to the CP sector. Table 2 lists the proposed 2025 and 2026 allocations of pollock TAC. Tables 13, 14, and 15 list the AFA CP and CV harvesting sideboard limits. The BS inshore pollock cooperative and open access sector allocations are based on the submission of AFA inshore cooperative applications due to NMFS on December 1 of each calendar year. Because AFA inshore cooperative applications for 2025 have not been submitted to NMFS, and NMFS therefore cannot calculate 2025 allocations, NMFS has not included inshore cooperative tables in these proposed harvest specifications. NMFS will include the 2025 AFA inshore pollock cooperative and open access sector allocations in the final harvest specifications. NMFS also will post the 2025 AFA inshore pollock cooperative and open access sector allocations on the Alaska Region website at https://www.fisheries.noaa.gov/alaska/sustainable-fisheries/alaska-fisheries-management-reports prior to the start of the fishing year, based on the harvest specifications effective on that date.

Table 2 also lists proposed seasonal apportionments of pollock and harvest limits within the Steller Sea Lion Conservation Area (SCA). The harvest of pollock within the SCA, as defined at § 679.22(a)(7)(vii), is limited to no more than 28 percent of the annual pollock DFA before 12 p.m. (noon), April 1, as provided in § 679.20(a)(5)(i)(C). The A season pollock SCA harvest limit will be apportioned to each sector in proportion to each sector's allocated percentage of the DFA.

Table 2—Proposed 2025 and 2026 Allocations of Pollock TACs to the Directed Pollock Fisheries and to the CDQ Directed Fishing Allowances (DFA) ¹
[Amounts are in metric tons]
Area and sector | 2025 and 2026 allocations | A season ¹: A season DFA | A season ¹: SCA harvest limit ² | B season ¹: B season DFA
Bering Sea subarea TAC | 1,325,000 | n/a | n/a | n/a
CDQ DFA | 132,500 | 59,625 | 37,100 | 72,875
ICA ¹ | 46,000 | n/a | n/a | n/a
Total Bering Sea DFA (non-CDQ) | 1,146,500 | 515,925 | 321,020 | 630,575
AFA Inshore | 573,250 | 257,963 | 160,510 | 315,288
AFA Catcher/Processors ³ | 458,600 | 206,370 | 128,408 | 252,230
Catch by CPs | 419,619 | 188,829 | n/a | 230,790
Catch by CVs ³ | 38,981 | 17,541 | n/a | 21,440
Unlisted CP Limit ⁴ | 2,293 | 1,032 | n/a | 1,261
AFA Motherships | 114,650 | 51,593 | 32,102 | 63,058
Excessive Harvesting Limit ⁵ | 200,638 | n/a | n/a | n/a
Excessive Processing Limit ⁶ | 343,950 | n/a | n/a | n/a
Aleutian Islands subarea ABC | 43,863 | n/a | n/a | n/a
Aleutian Islands subarea TAC | 19,000 | n/a | n/a | n/a
CDQ DFA | 1,900 | 1,900 | n/a |
ICA | 3,000 | 1,500 | n/a | 1,500
Aleut Corporation | 14,100 | 14,100 | n/a |
Area harvest limit ⁷ | n/a | n/a | n/a | n/a
541 | 13,159 | n/a | n/a | n/a
542 | 6,579 | n/a | n/a | n/a
543 | 2,193 | n/a | n/a | n/a
Bogoslof District ICA ⁸ | 300 | n/a | n/a | n/a
¹ Pursuant to § 679.20(a)(5)(i)(A), the annual Bering Sea subarea pollock TAC, after subtracting the CDQ DFA (10 percent) and the ICA (46,000 mt), is allocated as a DFA as follows: inshore sector-50 percent, CPs-40 percent, and mothership sector-10 percent. In the Bering Sea subarea, 45 percent of the DFA and CDQ DFA are allocated to the A season (January 20-June 10) and 55 percent of the DFA and CDQ DFA are allocated to the B season (June 10-November 1). Pursuant to § 679.20(a)(5)(iii)(B)(2), the annual Aleutian Islands subarea pollock TAC, after subtracting first for the CDQ DFA (10 percent) and second for the ICA (3,000 mt), is allocated to the Aleut Corporation for a directed pollock fishery. In the Aleutian Islands subarea, the A season is allocated up to 40 percent of the AI pollock ABC.
² In the Bering Sea subarea, pursuant to § 679.20(a)(5)(i)(C), no more than 28 percent of each sector's annual DFA may be taken from the SCA before noon, April 1. The SCA is defined at § 679.22(a)(7)(vii).
³ Pursuant to § 679.20(a)(5)(i)(A)(4), 8.5 percent of the DFA allocated to listed CPs shall be available for harvest only by eligible catcher vessels with a CP endorsement delivering to listed CPs, unless there is a cooperative contract for the year.
⁴ Pursuant to § 679.20(a)(5)(i)(A)(4)(iii), the AFA unlisted CPs are limited to harvesting not more than 0.5 percent of the C/P sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ Pursuant to § 679.22(a)(7)(B), the Bogoslof District is closed to directed fishing for pollock. The amounts specified are therefore for incidental catch only and are not apportioned by season or sector (§ 679.20(a)(5)(ii)).

Allocation of the Atka Mackerel TACs

Section 679.20(a)(8) allocates the Atka mackerel TACs to the Amendment 80 and BSAI trawl limited access sectors, after subtracting the CDQ reserves, ICAs for the BSAI trawl limited access sector and non-trawl gear sector, and the jig gear allocation (table 3). The percentage of the ITAC for Atka mackerel allocated to the Amendment 80 and BSAI trawl limited access sectors is listed in table 33 to 50 CFR part 679 and in § 679.91. Pursuant to § 679.20(a)(8)(i), up to 2 percent of the Eastern Aleutian district and BS subarea Atka mackerel TAC may be allocated to vessels using jig gear. The percent of this allocation is recommended annually by the Council based on several criteria, including the anticipated harvest capacity of the jig gear fleet. The Council recommended, and NMFS proposes, a 0.5 percent allocation of the Atka mackerel TAC in the Eastern Aleutian district and BS subarea to the jig sector gear in 2025 and 2026.

Section 679.20(a)(8)(ii)(A) apportions the Atka mackerel TAC, after subtraction of the jig gear allocation, into two equal seasonal allowances. Section 679.23(e)(3) sets the first seasonal allowance for directed fishing with trawl gear from January 20 through June 10 (A season), and the second seasonal allowance from June 10 through December 31 (B season). Section 679.23(e)(4)(iii) applies Atka mackerel trawl seasons to trawl CDQ Atka mackerel fishing. Within any fishing year, any underharvest or overharvest of a seasonal allowance may be added to or subtracted from a subsequent seasonal allowance (§ 679.20(a)(8)(ii)(B)). The ICA and jig gear allocations are not apportioned by season.

Sections 679.20(a)(8)(ii)(C)(1)(i) and (ii) limit Atka mackerel catch within waters 0 nautical miles (nmi) to 20 nmi of Steller sea lion sites listed in table 6 to 50 CFR part 679 and located west of 178° W longitude to no more than 60 percent of the annual TACs in Areas 542 and 543, and equally divides that annual harvest limit between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nmi to 20 nmi of Steller sea lion sites listed in table 6 to 50 CFR part 679 and located in Areas 541, 542, and 543.

Table 3 lists the proposed 2025 and 2026 Atka mackerel seasonal allowances, area allowances, and the sector allocations. One Amendment 80 cooperative has formed for the 2025 fishing year. Because all Amendment 80 vessels are part of the sole cooperative, no allocation to the Amendment 80 limited access sector is required for 2025. The 2026 allocations for Atka mackerel between Amendment 80 cooperatives and the Amendment 80 limited access sector will not be known until eligible participants apply for participation in the program by November 1, 2025. NMFS will post the 2026 Amendment 80 cooperatives and Amendment 80 limited access sector allocations on the Alaska Region website at https://www.fisheries.noaa.gov/alaska/sustainable-fisheries/sustainable-fisheries-alaska prior to the start of the fishing year, based on the harvest specifications effective on that date.

Table 3—Proposed 2025 and 2026 Seasonal and Spatial Allowances, Gear Shares, CDQ Reserve, Incidental Catch Allowance (ICA), and Amendment 80 Allocations of the BSAI Atka Mackerel TAC
[Amounts are in metric tons]
Sector ¹ | Season 2 3 4 | 2025 and 2026 allocation by area: Eastern Aleutian District/Bering Sea | 2025 and 2026 allocation by area: Central Aleutian District ⁵ | 2025 and 2026 allocation by area: Western Aleutian District ⁵
TAC | n/a | 30,000 | 14,877 | 21,288
CDQ reserve | Total | 3,210 | 1,592 | 2,278
| A | 1,605 | 796 | 1,139
| Critical habitat ⁵ | n/a | 478 | 683
| B | 1,605 | 796 | 1,139
| Critical habitat ⁵ | n/a | 478 | 683
non-CDQ TAC | n/a | 26,790 | 13,285 | 19,010
ICA | Total | 800 | 100 | 20
Jig ⁶ | Total | 130 |  |
BSAI trawl limited access | Total | 2,586 | 1,319 |
| A | 1,293 | 659 |
| Critical habitat ⁵ | n/a | 396 |
| B | 1,293 | 659 |
| Critical habitat ⁵ | n/a | 396 |
Amendment 80 ⁷ | Total | 23,274 | 11,867 | 18,990
| A | 11,637 | 5,933 | 9,495
| Critical habitat ⁵ | n/a | 3,560 | 5,697
| B | 11,637 | 5,933 | 9,495
| Critical habitat ⁵ | n/a | 3,560 | 5,697
¹ Section 679.20(a)(8)(ii) allocates the Atka mackerel TACs, after subtracting the CDQ reserves, ICAs, and the jig gear allocation, to the Amendment 80 and BSAI trawl limited access sectors. The allocation of the ITAC for Atka mackerel to the Amendment 80 and BSAI trawl limited access sectors is established in table 33 to 50 CFR part 679 and § 679.91. The CDQ reserve is 10.7 percent of the TAC for use by CDQ participants (see § 679.20(b)(1)(ii)(C)).
² Sections 679.20(a)(8)(ii)(A) and 679.22(a) establish temporal and spatial limitations for the Atka mackerel fishery.
³ The seasonal allowances of Atka mackerel for the CDQ reserve, BSAI trawl limited access sector, and Amendment 80 sector are 50 percent in the A season and 50 percent in the B season.
⁴ Section 679.23(e)(3) authorizes directed fishing for Atka mackerel with trawl gear during the A season from January 20 to June 10, and the B season from June 10 to December 31.
⁵ Section 679.20(a)(8)(ii)(C)(1)(i) limits no more than 60 percent of the annual TACs in Areas 542 and 543 to be caught inside of Steller sea lion critical habitat; § 679.20(a)(8)(ii)(C)(1)(ii) equally divides the annual harvest limits between the A and B seasons as defined at § 679.23(e)(3); and § 679.20(a)(8)(ii)(C)(2) requires that the TAC in Area 543 shall be no more than 65 percent of ABC in Area 543.
⁶ Sections 679.2 and 679.20(a)(8)(i) require that up to 2 percent of the Eastern Aleutian District and Bering Sea subarea TAC be allocated to jig gear after subtraction of the CDQ reserve and ICA. The proposed amount of this allocation is 0.5 percent. The jig gear allocation is not apportioned by season.
⁷ The 2026 allocations for Atka mackerel between Amendment 80 cooperatives and the Amendment 80 limited access sector will not be known until eligible participants apply for participation in the program by November 1, 2025.

Allocation of the Pacific Cod TAC

The Council separated the BSAI OFL, ABC, and TAC into BS and AI subarea OFLs, ABCs, and TACs for Pacific cod in 2014 (79 FR 12108, March 4, 2014). Section 679.20(b)(1)(ii)(C) allocates 10.7 percent of the BS TAC and the AI TAC to the CDQ Program. After CDQ allocations have been deducted from the respective BS and AI Pacific cod TACs, the remaining BS and AI Pacific cod TACs are combined for calculating further BSAI Pacific cod sector allocations and seasonal allowances. If the non-CDQ Pacific cod TAC is or will be reached in either the BS or the AI subareas, NMFS will prohibit directed fishing for non-CDQ Pacific cod in that subarea, as provided in § 679.20(d)(1)(iii).

Section 679.20(a)(7)(ii) allocates to the non-CDQ sectors the combined BSAI Pacific cod TAC, after subtracting 10.7 percent for the CDQ Program, as follows: 1.4 percent to vessels using jig gear, 2.0 percent to hook-and-line or pot CVs less than 60 feet (ft) (18.3 m) LOA, 0.2 percent to hook-and-line CVs greater than or equal to 60 ft (18.3 m) LOA, 48.7 percent to hook-and-line CPs, 8.4 percent to pot CVs greater than or equal to 60 ft (18.3 m) LOA, 1.5 percent to pot CPs, 2.3 percent to AFA trawl CPs, 13.4 percent to the Amendment 80 sector, and 22.1 percent to trawl CVs. The BSAI ICA for the hook-and-line and pot sectors will be deducted from the aggregate portion of BSAI Pacific cod TAC allocated to the hook-and-line and pot sectors (§ 679.20(a)(7)(ii)(B)). For 2025 and 2026, the Regional Administrator proposes a BSAI ICA of 500 mt, based on anticipated incidental catch by these sectors in other fisheries. During the fishing year, NMFS may reallocate unharvested Pacific cod among sectors, consistent with the reallocation hierarchy set forth at § 679.20(a)(7)(iii).

The BSAI ITAC allocation of Pacific cod to the Amendment 80 sector is established in table 33 to 50 CFR part 679 and § 679.91. One Amendment 80 cooperative has formed for the 2025 fishing year. Because all Amendment 80 vessels are part of the sole cooperative, no allocation to the Amendment 80 limited access sector is required for 2025. The 2026 allocations for Pacific cod between Amendment 80 cooperatives and the Amendment 80 limited access sector will not be known until eligible participants apply for participation in the program by November 1, 2025. NMFS will post the 2026 Amendment 80 cooperatives and Amendment 80 limited access fishery allocations on the Alaska Region website at https://www.fisheries.noaa.gov/alaska/sustainable-fisheries/sustainable-fisheries-alaska prior to the start of the fishing year, based on the harvest specifications effective on that date.

The BSAI ITAC allocation of Pacific cod to the Pacific Cod Trawl Cooperative Program (PCTC) Program is established in § 679.131(b). Section 679.131(b)(1)(i) also requires NMFS to establish an ICA for incidental catch of Pacific cod by trawl CVs engaged in directed fishing for groundfish other than PCTC Program Pacific cod during the A and B seasons. In the annual harvest specification process, NMFS determines the Pacific cod trawl catcher vessel TAC and the annual apportionment of Pacific cod in the A and B seasons between the PCTC Program DFA and the ICA (§ 679.131(b)(2)) (table 4 below). The allocations to PCTC Program cooperatives are not included in these proposed harvest specifications. PCTC Program cooperative applications are not due to NMFS until November 1, 2024; therefore, NMFS cannot calculate 2025 and 2026 allocations in conjunction with these proposed harvest specifications (§ 679.131(b)). After receiving the PCTC Program applications, NMFS will calculate the 2025 allocations for PCTC Program cooperatives, as set forth in in § 679.131(b), and will include the 2025 PCTC Program cooperative allocations in the final harvest specifications. NMFS also will post the 2025 PCTC Program cooperative allocations on the Alaska Region website at https://www.fisheries.noaa.gov/alaska/sustainable-fisheries/alaska-fisheries-management-reports prior to the start of the fishing year, based on the harvest specifications effective on that date. The 2026 allocations for Pacific cod for PCTC Program cooperatives will not be known until eligible participants apply for participation in the program by November 1, 2025.

The sector allocations of Pacific cod are apportioned into seasonal allowances to disperse the Pacific cod fisheries over the fishing year (see §§ 679.20(a)(7)(i)(B) (CDQ), 679.20(a)(7)(iv)(A) (non-CDQ), and 679.23(e)(5) (seasons)). Table 4 lists the non-CDQ sector and seasonal allowances. In accordance with § 679.20(a)(7)(iv)(B) and (C), any unused portion of a non-CDQ Pacific cod seasonal allowance for any sector, except the jig sector, will become available at the beginning of that sector's next seasonal allowance. Section 679.20(a)(7)(i)(B) sets forth the CDQ Pacific cod gear allowances by season, and CDQ groups are prohibited from exceeding those seasonal allowances (§ 679.7(d)(6)).

Section 679.20(a)(7)(vii) requires that the Regional Administrator establish an Area 543 Pacific cod harvest limit based on Pacific cod abundance in Area 543 as determined by the annual stock assessment process. Based on the 2023 stock assessment, the Regional Administrator has preliminarily determined for 2025 and 2026 that the estimated amount of Pacific cod abundance in Area 543 is 15.7 percent of total AI abundance. To calculate the Area 543 Pacific cod harvest limit, NMFS first subtracts the State GHL Pacific cod amount from the AI Pacific cod ABC. Then NMFS determines the harvest limit in Area 543 by multiplying the percentage of Pacific cod estimated in Area 543 (15.7 percent) by the remaining ABC for AI Pacific cod. Based on these calculations, which rely on the 2023 stock assessment, the proposed Area 543 harvest limit is 1,269 mt. However, the final Area 543 harvest limit could change if the Pacific cod abundance in Area 543 changes based on the stock assessment in the final 2024 SAFE report.

Under the PCTC Program, PCTC cooperatives are required to collectively set aside up to 12 percent of the PCTC Program A-season allocation for delivery to an AI shoreplant established through the process set forth at § 679.132 in years in which an AI community representative notifies NMFS of their intent to process PCTC Program Pacific cod in Adak or Atka. A notice of intent to process PCTC Program Pacific cod for 2025 must be submitted in writing to the Regional Administrator by a representative of the City of Adak or the City of Atka no later than October 15. A notice of intent was not received in 2024, and accordingly the AI set-aside will not be in effect for 2025. The 2026 set-aside will be determined after the October 15, 2025, deadline in conjunction with the 2026 and 2027 harvest specifications process.

Based on the proposed 2025 and 2026 Pacific cod TACs, table 4 lists the CDQ and non-CDQ TAC amounts; non-CDQ seasonal allowances by gear; the sector allocations of Pacific cod; and the seasons set forth at § 679.23(e)(5).

Table 4—Proposed 2025 and 2026 Sector Allocations and Seasonal Allowances of the BSAI ¹ Pacific Cod TAC
[Amounts are in metric tons]
Sector | Percent | 2025 and 2026 share of gear sector total | 2025 and 2026 share of sector total | 2025 and 2026 seasonal allowances: Season | 2025 and 2026 seasonal allowances: Amount
Total Bering Sea TAC | n/a | 131,217 | n/a | n/a | n/a
Bering Sea CDQ | n/a | 14,040 | n/a | See § 679.20(a)(7)(i)(B) | n/a
Bering Sea non-CDQ TAC | n/a | 117,177 | n/a | n/a | n/a
Total Aleutian Islands TAC | n/a | 8,080 | n/a | n/a | n/a
Aleutian Islands CDQ | n/a | 865 | n/a | See § 679.20(a)(7)(i)(B) | n/a
Aleutian Islands non-CDQ TAC | n/a | 7,215 | n/a | n/a | n/a
Western Aleutians Islands Limit | n/a | 1,269 | n/a | n/a | n/a
Total BSAI non-CDQ TAC ¹ | 100.0 | 124,392 | n/a | n/a | n/a
Total hook-and-line/pot gear | 60.8 | 75,630 | n/a | n/a | n/a
Hook-and-line/pot ICA ² | n/a | n/a | 500 | n/a | n/a
Hook-and-line/pot sub-total | n/a | 75,130 | n/a | n/a | n/a
Hook-and-line catcher/processors | 48.7 | n/a | 60,179 | n/a | n/a
A-season |  |  |  | Jan-1-Jun 10 | 30,691
B-season |  |  |  | Jun 10-Dec 31 | 29,487
Hook-and-line catcher vessels ≥60 ft LOA | 0.2 | n/a | 247 | n/a | n/a
A-season |  |  |  | Jan 1-Jun 10 | 126
B-season |  |  |  | Jun 10-Dec 31 | 121
Pot catcher/processors | 1.5 | n/a | 1,854 | n/a | n/a
Pot catcher/processors A-season |  |  |  | Jan 1-Jun 10 | 945
Pot catcher/processors B-season |  |  |  | Sept 1-Dec 31 | 908
Pot catcher vessels ≥60 ft LOA | 8.4 | n/a | 10,380 | n/a | n/a
A-season |  |  |  | Jan 1-Jun 10 | 5,294
B-season |  |  |  | Sept-1-Dec 31 | 5,086
Catcher vessels <60 ft LOA using hook-and-line or pot gear | 2.0 | n/a | 2,471 | n/a | n/a
Trawl catcher vessels ³ | 22.1 | 27,491 | n/a | n/a | n/a
A-Season ICA |  |  |  | Jan 20-Apr 1 | 1,500
A-season PCTC |  |  |  | Jan 20-Apr 1 | 18,843
B-season ICA |  |  |  | Apr 1-Jun 10 | 700
B-season PCTC |  |  |  | Apr 1-Jun 10 | 2,324
C-season trawl catcher vessels |  |  |  | Jun 10-Nov 1 | 4,124
AFA trawl catcher/processors | 2.3 | 2,861 | n/a | n/a | n/a
A-season |  |  |  | Jan 20-Apr 1 | 2,146
B-season |  |  |  | Apr 1-Jun 10 | 715
C-season |  |  |  | Jun 10-Nov 1 |
Amendment 80 | 13.4 | 16,669 | n/a | n/a | n/a
A-season |  |  |  | Jan 20-Apr 1 | 12,501
B-season |  |  |  | Apr 1-Jun 10 | 4,167
C-season |  |  |  | Jun 10-Dec 31 |
Jig | 1.4 | 1,741 | n/a | n/a | n/a
A-season |  |  |  | Jan 1-Apr 30 | 1,045
B-season |  |  |  | Apr 30-Aug 31 | 348
C-season |  |  |  | Aug 31-Dec 31 | 348
¹ The sector allocations and seasonal allowances for BSAI Pacific cod TAC are based on the sum of the BS and AI Pacific cod TACs, after subtraction of the reserves for the CDQ Program. If the TAC for Pacific cod in either the BS or AI is or will be reached, then directed fishing will be prohibited for non-CDQ Pacific cod in that subarea, even if a BSAI allowance remains (§ 679.20(d)(1)(iii)).
² The ICA for the hook-and-line and pot sectors will be deducted from the aggregate portion of Pacific cod TAC allocated to the hook-and-line and pot sectors. The Regional Administrator proposes an ICA of 500 mt based on anticipated incidental catch by these sectors in other fisheries.
³ The A and B season trawl CV Pacific cod allocation will be allocated to the PCTC Program after subtraction of the A and B season ICAs (§ 679.131(b)(1)). The Regional Administrator proposes for the A and B seasons, ICAs of 1,500 mt and 700 mt, respectively, to account for projected incidental catch of Pacific cod by trawl catcher vessels engaged in directed fishing for groundfish other than PCTC Program Pacific cod.
Note: Seasonal or sector apportionments may not total precisely due to rounding.

Sablefish Gear Allocation

Section 679.20(a)(4)(iii) and (iv) require allocation of sablefish TAC for the BS and AI between trawl gear and fixed gear. Gear allocations of the sablefish TAC for the BS are 50 percent for trawl gear and 50 percent for fixed gear. Gear allocations of the TAC for the AI are 25 percent for trawl gear and 75 percent for fixed gear. Section 679.20(b)(1)(ii)(B) requires that NMFS apportion 20 percent of the fixed gear allocation of sablefish TAC to the CDQ reserve for each subarea. Also, § 679.20(b)(1)(ii)(D)(1) requires that 7.5 percent of the trawl gear allocation of sablefish TAC from the nonspecified reserve, established under § 679.20(b)(1)(i), be apportioned to the CDQ reserve. The Council recommended that only trawl gear allocations of sablefish TACs be established biennially and that fixed gear allocations of sablefish TACs be established for 1 year. NMFS concurs, and the proposed harvest specifications for the fixed gear sablefish Individual Fishing Quota (IFQ) fisheries are limited to the 2025 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 5 lists the proposed 2025 and 2026 gear allocations of the sablefish TAC and CDQ reserve amounts.

Table 5—Proposed 2025 and 2026 Gear Shares and CDQ Reserve of BSAI Sablefish TACs
[Amounts are in metric tons]
Subarea and gear | Percent of TAC | 2025 Share of TAC | 2025 ITAC ¹ | 2025 CDQ reserve | 2026 Share of TAC | 2026 ITAC | 2026 CDQ reserve
Bering Sea:
Trawl gear | 50 | 4,750 | 4,038 | 356 | 4,750 | 4,038 | 356
Fixed gear ² | 50 | 4,750 | n/a | 950 | n/a | n/a | n/a
Total | 100 | 9,500 | 4,038 | 1,306 | 4,750 | 4,038 | 356
Aleutian Islands:
Trawl gear | 25 | 2,110 | 1,794 | 158 | 2,110 | 1,794 | 158
Fixed gear ² | 75 | 6,330 | n/a | 1,266 | n/a | n/a | n/a
Total | 100 | 8,440 | 1,794 | 1,424 | 2,110 | 1,794 | 158
¹ For the sablefish TAC allocated to vessels using trawl gear, 15 percent of TAC is apportioned to the nonspecified reserve (§ 679.20(b)(1)(i)). The ITAC for vessels using trawl gear is the remainder of the TAC after subtracting this reserve. In the BS and AI, 7.5 percent of the trawl gear allocation of the TAC is assigned from the nonspecified reserve to the CDQ reserve (§ 679.20(b)(1)(ii)(D)(1)).
² For the portion of the sablefish TAC allocated to vessels using fixed gear, 20 percent of the allocated TAC for the BS and AI is reserved for use by CDQ participants (§ 679.20(b)(1)(ii)(B)). The ITAC for vessels using fixed gear is the remainder of the TAC after subtracting the CDQ reserve for each subarea. The Council recommended, and NMFS proposes, that specifications for the fixed gear sablefish IFQ fisheries be limited to 1 year.
Note: Seasonal or sector apportionments may not total precisely due to rounding.

Allocation of the AI Pacific Ocean Perch, and BSAI Flathead Sole, Rock Sole, and Yellowfin Sole TACs

Section 679.20(a)(10)(i) and (ii) require that NMFS allocate AI Pacific ocean perch, and BSAI flathead sole, rock sole, and yellowfin sole TACs between the Amendment 80 sector and the BSAI trawl limited access sector, after subtracting 10.7 percent for the CDQ reserves and amounts for ICAs for the BSAI trawl limited access sector and vessels using non-trawl gear. The allocation of the ITACs for AI Pacific ocean perch, and BSAI flathead sole, rock sole, and yellowfin sole to the Amendment 80 sector is established in accordance with tables 33 and 34 to 50 CFR part 679 and in § 679.91.

One Amendment 80 cooperative has formed for the 2025 fishing year. Because all Amendment 80 vessels are part of the sole cooperative, no allocation to the Amendment 80 limited access sector is required for 2025. The 2026 allocations for Amendment 80 species between Amendment 80 cooperatives and the Amendment 80 limited access sector will not be known until eligible participants apply for participation in the program and the deadline for applying for participation is November 1, 2025. NMFS will post the 2026 Amendment 80 cooperatives and Amendment 80 limited access sector allocations on the Alaska Region website at https://www.fisheries.noaa.gov/alaska/sustainable-fisheries/sustainable-fisheries-alaska prior to the start of the fishing year, based on the harvest specifications effective on that date. Table 6 lists the proposed 2025 and 2026 allocations of the AI Pacific ocean perch, and BSAI flathead sole, rock sole, and yellowfin sole TACs.

Table 6—Proposed 2025 and 2026 Community Development Quota (CDQ) Reserves, Incidental Catch Amounts (ICAs), and Amendment 80 Allocations of the Aleutian Islands Pacific Ocean Perch, and BSAI Flathead Sole, Rock Sole, and Yellowfin Sole TACs
[Amounts are in metric tons]
Sector | 2025 and 2026 allocations: Pacific ocean perch: Eastern Aleutian District | 2025 and 2026 allocations: Pacific ocean perch: Central Aleutian District | 2025 and 2026 allocations: Pacific ocean perch: Western Aleutian District | 2025 and 2026 allocations: Flathead sole: BSAI | 2025 and 2026 allocations: Rock sole: BSAI | 2025 and 2026 allocations: Yellowfin sole: BSAI
TAC | 7,828 | 5,423 | 12,500 | 35,500 | 66,000 | 195,000
CDQ | 838 | 580 | 1,338 | 3,799 | 7,062 | 20,865
ICA | 100 | 60 | 10 | 2,000 | 3,000 | 2,000
BSAI trawl limited access | 689 | 478 | 223 |  |  | 33,796
Amendment 80 ¹ | 6,201 | 4,304 | 10,929 | 29,702 | 55,938 | 138,339
¹ The 2026 allocations between Amendment 80 cooperatives and the Amendment 80 limited access sector will not be known until eligible participants apply for participation in the program by the deadline of November 1, 2025.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from fully harvesting their allocations and to improve the likelihood of achieving and maintaining, on a continuing basis, the optimum yield in the BSAI groundfish fisheries. NMFS, after consultation with the Council, may set the ABC reserve at or below the ABC surplus for each species, thus maintaining the TAC at or below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves are the ABC reserves minus the CDQ ABC reserves. Section 679.91(i)(2) establishes each Amendment 80 cooperative ABC reserves to be the ratio of each cooperatives' quota share units and the total Amendment 80 quota share units, multiplied by the Amendment 80 ABC reserve for each respective species. Table 7 lists the proposed 2025 and 2026 ABC surplus and ABC reserves for BSAI flathead sole, rock sole, and yellowfin sole.

Table 7—Proposed 2025 and 2026 ABC Surplus, ABC Reserves, Community Development Quota (CDQ) ABC Reserves, and Amendment 80 ABC Reserves in the BSAI for Flathead Sole, Rock Sole, and Yellowfin Sole
[Amounts are in metric tons]
Sector | Flathead sole | Rock sole | Yellowfin sole
ABC | 68,203 | 122,535 | 276,917
TAC | 35,500 | 66,000 | 195,000
ABC surplus | 32,703 | 56,535 | 81,917
ABC reserve | 32,703 | 56,535 | 81,917
CDQ ABC reserve | 3,499 | 6,049 | 8,765
Amendment 80 ABC reserve ¹ | 29,204 | 50,486 | 73,152
Note: The 2026 allocations between Amendment 80 cooperatives and the Amendment 80 limited access sector will not be known until eligible participants apply for participation in the program by the deadline of November 1, 2025.

Proposed PSC Limits for Halibut, Salmon, Crab, and Herring

Sections 679.21(b), (e), (f), and (g) set forth the BSAI PSC limits. Section 679.21(b)(1) establishes three fixed halibut PSC limits totaling 1,770 mt, and assigns 315 mt of the halibut PSC limit as the PSQ reserve for use by the groundfish CDQ Program, 745 mt of the halibut PSC limit for the BSAI trawl limited access sector, and 710 mt of the halibut PSC limit for the BSAI non-trawl sector. Under amendment 123 to the FMP and implementing regulations (88 FR 82740, November 24, 2023), an additional amount for the halibut PSC limit for the Amendment 80 sector is determined annually based on the most recent halibut biomass estimates from the International Pacific Halibut Commission (IPHC) setline survey index and the NMFS Alaska Fisheries Science Center (AFSC) Eastern Bering Sea shelf trawl survey index. In accordance with § 679.21(b)(1)(i)(B), NMFS applies both halibut biomass estimates such that the value at the intercept of those survey indices from table 58 to 50 CFR part 679 is the Amendment 80 sector halibut PSC limit for the following year.

The 2024 AFSC Eastern Bering Sea shelf trawl survey index estimate of halibut abundance is 125,145 mt and is below the threshold level of 150,000 mt. The IPHC setline survey index is unknown at this time but is anticipated to be available by December 2024. Based on the 2024 AFSC Eastern Bering Sea shelf trawl survey index indicating a low biomass state, the final Amendment 80 sector halibut PSC limit will be one of the following—1,134 mt, 1,309 mt, 1,396 mt, or 1,745 mt—depending on the IPHC setline survey index. Since both survey indices are not yet available, NMFS is unable to calculate the Amendment 80 sector halibut PSC limit for next year in these proposed 2025 and 2026 harvest specifications and therefore proposes a roll-over from last year's 2024 and 2025 harvest specifications of 1,396 mt. NMFS will calculate the final Amendment 80 sector halibut PSC limit and the total halibut PSC limit for the BSAI in the final 2025 and 2026 harvest specifications.

Section 679.21(b)(1)(iii)(A) and (B) require apportionment of the BSAI non-trawl halibut PSC limit into PSC allowances among six fishery categories, and § 679.21(b)(1)(ii)(A) and (B), (e)(3)(i)(B), and (e)(3)(iv) require apportionment of the BSAI trawl limited access sector's halibut and crab PSC limits into PSC allowances among seven fishery categories. Tables 9 and 10 list the proposed fishery PSC allowances for the BSAI trawl limited access sector fisheries, and table 11 lists the proposed fishery PSC allowances for the non-trawl fisheries.

Pursuant to section 3.6 of the FMP, the Council recommends, and NMFS proposes, that certain specified non-trawl fisheries be exempt from the halibut PSC limit. As in past years, after consultation with the Council, NMFS proposes to exempt the pot gear fishery, the jig gear fishery, and the sablefish IFQ fixed gear fishery categories from halibut bycatch restrictions for the following reasons: (1) the pot gear fisheries have low halibut bycatch mortality; (2) NMFS estimates halibut mortality for the jig gear fleet to be negligible because of the small size of the fishery and the selectivity of the gear; and (3) the sablefish and halibut IFQ fisheries have low halibut bycatch mortality because the IFQ Program requires legal-size halibut to be retained by vessels using fixed gear if a halibut IFQ permit holder or a hired master is aboard and is holding unused halibut IFQ for that vessel category and the IFQ regulatory area in which the vessel is operating (§ 679.7(f)(11)).

As of November 8, 2024, total groundfish catch for the pot gear fishery in the BSAI was 13,278 mt, with an associated halibut bycatch mortality of 9 mt. The 2024 jig gear fishery harvested 0 mt of groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPA) are approved, and on whether NMFS determines it is a low Chinook salmon abundance year. NMFS will determine that it is a low Chinook salmon abundance year when abundance of Chinook salmon in western Alaska is less than or equal to 250,000 Chinook salmon. The State provides to NMFS an estimate of Chinook salmon abundance using the 3-System Index for western Alaska, based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved, or if the sector has exceeded its performance standard under § 679.21(f)(6), and if it is not a low abundance year, then NMFS will allocate a portion of the 47,591 Chinook salmon PSC limit to that sector as specified in § 679.21(f)(3)(iii)(C). If an AFA sector participates in an approved IPA and has not exceeded its performance standard under § 679.21(f)(6) in a low abundance year, then NMFS will allocate a portion of the 45,000 Chinook salmon PSC limit to that sector as specified in § 679.21(f)(3)(iii)(B). If no IPA is approved, or if the sector has exceeded its performance standard under § 679.21(f)(6), and if in a low abundance year, then NMFS will allocate a portion of the 33,318 Chinook salmon PSC limit to that sector as specified in § 679.21(f)(3)(iii)(D).

NMFS has determined that 2024 was a low Chinook salmon abundance year, based on the State's estimate that Chinook salmon abundance in western Alaska is less than 250,000 Chinook salmon. In addition, all AFA sectors are participating in NMFS-approved IPAs, and no sector has exceeded the sector's annual Chinook salmon bycatch performance standard in any three of seven consecutive years. Therefore, in 2025, the Chinook salmon PSC limit is 45,000 Chinook salmon, allocated to each sector as specified in § 679.21(f)(3)(iii)(B). In 2025, the Chinook salmon bycatch performance standard under § 679.21(f)(6) is 33,318 Chinook salmon, allocated to each sector as specified in § 679.21(f)(3)(iii)(D). If a sector exceeds its Chinook salmon bycatch performance standard in any three of seven consecutive years, that sector's allocation is reduced to the amount allocated under the Chinook salmon bycatch performance standard at § 679.21(f)(3)(iii)(C)-(D). The AFA sector Chinook salmon PSC limits are also seasonally apportioned with 70 percent for the A season pollock fishery and 30 percent for the B season pollock fishery (§§ 679.21(f)(3)(i) and 679.23(e)(2)). NMFS publishes the approved IPAs and the Chinook salmon PSC allocations and reports at https://www.fisheries.noaa.gov/alaska/sustainable-fisheries/sustainable-fisheries-alaska.

Section 679.21(g)(2)(i) specifies 700 fish as the 2025 and 2026 Chinook salmon PSC limit for the AI pollock fishery. Section 679.21(g)(2)(ii) allocates 7.5 percent, or 53 Chinook salmon, as the AI PSQ reserve for the CDQ Program and allocates the remaining 647 Chinook salmon to the non-CDQ fisheries.

Section 679.21(f)(14)(i) specifies 42,000 fish as the 2025 and 2026 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ Program and allocates the remaining 37,506 non-Chinook salmon in the CVOA to the non-CDQ fisheries. Section 679.21(f)(14)(iv) exempts from closures in the Chum Salmon Savings Area trawl vessels participating in directed fishing for pollock and operating under an IPA approved by NMFS.

PSC limits for crab and herring are specified annually based on abundance and spawning biomass.

Based on the most recent (2024) survey data, the red king crab mature female abundance is estimated at 11.7 million red king crabs, and the effective spawning biomass is estimated at 22.47 million lbs (10,190 mt). Based on the criteria set out at § 679.21(e)(1)(i), the calculated 2025 and 2026 PSC limit of red king crab in Zone 1 for trawl gear is 97,000 animals. This limit derives from the mature female abundance estimate above 8.4 million mature red king crab and an effective spawning biomass between 14.5 and 55 million lbs (6,577 and 24,947 mt).

Section 679.21(e)(3)(ii)(B)(2) establishes criteria under which NMFS must specify, after consultation with the Council, an annual red king crab bycatch limit for the Red King Crab Savings Subarea (RKCSS) if the State has established a GHL fishery for red king crab in the Bristol Bay area in the previous year. The regulations limit the RKCSS red king crab bycatch limit to 25 percent of the red king crab PSC limit, based on the need to optimize the groundfish harvest relative to red king crab bycatch. In October 2024, the Council recommended and NMFS proposes that the RKCSS red king crab bycatch limit for 2025 and 2026 be equal to 25 percent of the red king crab PSC limit (table 9).

Based on the most recent (2024) survey data from the NMFS annual bottom trawl survey, Tanner crab (Chionoecetes bairdi) abundance is estimated at 1,216 million animals. Pursuant to criteria set out at § 679.21(e)(1)(ii), the calculated 2025 and 2026 C. bairdi crab PSC limit for trawl gear is 980,000 animals in Zone 1 and 2,970,000 animals in Zone 2. The limit in Zone 1 is based on the total abundance of C. bairdi (estimated at 1,216 million animals), which is greater than 400 million animals. The limit in Zone 2 is based on the total abundance of C. bairdi (estimated at 1,216 million animals), which is greater than 400 million animals.

Pursuant to § 679.21(e)(1)(iii), the PSC limit for trawl gear for snow crab (C. opilio) is based on total abundance as indicated by the NMFS annual bottom trawl survey. The C. opilio crab PSC limit in the C. opilio bycatch limitation zone (COBLZ) is set at 0.1133 percent of the Bering Sea abundance index minus 150,000 crabs, unless a minimum or maximum PSC limit applies. Based on the most recent (2024) survey estimate of 13.37 billion animals, the calculated C. opilio crab PSC limit is 14,998,210 animals. Because 0.1133 percent multiplied by the total abundance is greater than 13 million animals, the maximum PSC limit applies and the PSC limit will be 12.85 million animals.

Pursuant to § 679.21(e)(1)(v), the PSC limit of Pacific herring caught while conducting any trawl operation for BSAI groundfish is 1 percent of the annual eastern Bering Sea herring biomass. Due to the lack of new information as of October 2024 regarding herring PSC limits and apportionments, the Council recommended, and NMFS proposes, basing the proposed 2025 and 2026 herring PSC limits and apportionments on the 2023 survey data. Based on the 2023 survey data, the best current estimate of 2025 and 2026 herring biomass is 253,511 mt. This amount was developed by the Alaska Department of Fish and Game based on biomass for spawning aggregations. Therefore, the herring PSC limit proposed for 2025 and 2026 is 2,535 mt for all trawl gear as listed in tables 8 and 9. The Council and NMFS will reconsider the herring PSC limit for the final harvest specifications when updated survey data and information on biomass becomes available.

Section 679.21(e)(3)(i)(A)(1) apportions 10.7 percent of each trawl gear PSC limit specified for crab as a PSQ reserve for use by the groundfish CDQ Program. Section 679.21(e)(3)(i)(A) requires that crab PSQ reserves be subtracted from the total trawl PSC limits. The crab and halibut PSC limits assigned to the Amendment 80 and BSAI trawl limited access sectors are listed in table 35 to 50 CFR part 679. The resulting proposed 2025 and 2026 apportionments of crab and halibut PSC limits to CDQ PSQ, the Amendment 80 sector, and the BSAI trawl limited access sector are listed in table 8. Pursuant to §§ 679.21(b)(1)(i), 679.21(e)(3)(vi), and 679.91(d) through (f), crab and halibut trawl PSC limits assigned to the Amendment 80 sector are then further issued to Amendment 80 cooperatives as cooperative quotas. Crab and halibut PSC cooperative quotas assigned to Amendment 80 cooperatives are not assigned to specific fishery categories.

One Amendment 80 cooperative has formed for the 2025 fishing year. Because all Amendment 80 vessels are part of the sole cooperative, no PSC limit assigned to the Amendment 80 limited access sector is required for 2025. The 2026 PSC limits assigned between Amendment 80 cooperatives and the Amendment 80 limited access sector will not be known until eligible participants apply for participation in the program by the deadline of November 1, 2025. NMFS will post the 2026 Amendment 80 cooperatives and Amendment 80 limited access sector limits on the Alaska Region website at https://www.fisheries.noaa.gov/alaska/sustainable-fisheries/sustainable-fisheries-alaska prior to the start of the fishing year, based on the harvest specifications effective on that date.

The BSAI allocation of halibut and crab PSC limits to the PCTC Program is established in § 679.131(c) and (d). The halibut PSC apportioned to the trawl CV sector is 98 percent of the halibut PSC limit apportioned to the BSAI trawl limited access sector's Pacific cod fishery category, and the remaining 2 percent is apportioned to the AFA CP sector. The trawl CV sector apportionment is further assigned to the A and B seasons (95 percent) and the C season (5 percent), and the A and B season trawl CV halibut PSC limit is reduced by 25 percent to determine the overall PCTC Program halibut PSC limit. The crab PSC apportioned to the trawl CV sector is 90.6 percent of the crab PSC limit apportioned to the BSAI trawl limited access sector's Pacific cod fishery category, and the remaining 9.4 percent is apportioned to the AFA CP sector. The trawl CV sector apportionment is further assigned to the A and B seasons (95 percent) and the C season (5 percent), and the A and B season trawl CV crab PSC limit is reduced by 35 percent to determine the overall PCTC Program crab PSC limit.

Pursuant to § 679.131(c) and (d), the halibut and crab trawl PSC limits assigned to the PCTC Program are then further issued to PCTC Program cooperatives as cooperative quotas. The halibut and crab PSC limits issued to PCTC Program cooperatives are not included in these proposed harvest specifications. PCTC Program cooperative applications are not due to NMFS until November 1, 2024; therefore, NMFS cannot calculate 2025 PSC limits in conjunction with these proposed harvest specifications (§ 679.131(c) and (d)). After receiving the PCTC Program cooperative applications, NMFS will calculate the 2025 halibut and crab PSC limits for PCTC Program cooperatives, as set forth in in § 679.131(c) and (d), and will include the 2025 halibut and crab PSC limits for PCTC Program cooperatives in the final harvest specifications. NMFS also will post them on the Alaska Region website at https://www.fisheries.noaa.gov/alaska/sustainable-fisheries/alaska-fisheries-management-reports prior to the start of the fishing year, based on the harvest specifications effective on that date. The 2026 allocations of halibut and crab PSC limits for PCTC Program cooperatives will not be known until eligible participants apply for participation in the program by the deadline of November 1, 2025.

Sections 679.21(b)(2) and (e)(5) authorize NMFS, after consulting with the Council, to establish seasonal apportionments of halibut and crab PSC amounts for the BSAI non-trawl, BSAI trawl limited access, and Amendment 80 limited access sectors to maximize the ability of the fleets to harvest the available groundfish TAC and to minimize bycatch. The factors considered are (1) seasonal distribution of prohibited species, (2) seasonal distribution of target groundfish species relative to prohibited species distribution, (3) prohibited species bycatch needs on a seasonal basis relevant to prohibited species biomass and expected catches of target groundfish species, (4) expected variations in bycatch rates throughout the year, (5) expected changes in directed groundfish fishing seasons, (6) expected start of fishing effort, and (7) economic effects of establishing seasonal prohibited species apportionments on segments of the target groundfish industry. Based on these criteria, the Council recommended, and NMFS proposes, the seasonal PSC apportionments in tables 10 and 11 to maximize harvest among gear types, fisheries, and seasons, while minimizing bycatch of PSC.

Table 8—Proposed 2025 and 2026 Apportionment of Prohibited Species Catch Allowances to Non-Trawl Gear, the CDQ Program, Amendment 80, and the BSAI Trawl Limited Access Sectors
PSC species, areas, and zones ¹ | Total PSC ⁴ | Non-trawl PSC | CDQ PSQ reserve ² | Trawl PSC remaining after CDQ PSQ | Amendment 80 sector 3 4 | BSAI trawl limited access sector | BSAI PSC limits not allocated ²
Halibut mortality (mt) BSAI | 3,166 | 710 | 315 | n/a | 1.396 | 745 | n/a
Herring (mt) BSAI | 2,535 | n/a | n/a | n/a | n/a | n/a | n/a
Red king crab (animals) Zone 1 | 97,000 | n/a | 10,379 | 86,621 | 43,293 | 26,489 | 16,839
C. opilio (animals) COBLZ | 12,850,000 | n/a | 1,374,950 | 11,475,050 | 5,639,987 | 3,688,081 | 2,146,982
C. bairdi crab (animals) Zone 1 | 980,000 | n/a | 104,860 | 875,140 | 368,521 | 411,228 | 95,390
C. bairdi crab (animals) Zone 2 | 2,970,000 | n/a | 317,790 | 2,652,210 | 627,778 | 1,241,500 | 782,932
¹ Refer to § 679.2 for definitions of areas and zones.
² The PSQ reserve for the CDQ Program for crab species is 10.7 percent of each crab PSC limit.
³ The Amendment 80 program reduced apportionment of the trawl PSC limits for crab below the total PSC limit. These reductions are not apportioned to other gear types or sectors.
⁴ Under Amendment 123 and implementing regulations (88 FR 82740, November 24, 2023), the halibut PSC limit for the Amendment 80 sector is determined annually based on the most recent halibut biomass estimates from the IPHC setline survey index and the NMFS AFSC Eastern Bering Sea shelf trawl survey index (§ 679.21(b)(1)(i)(A)-(C)). Since both survey indices are not yet available, NMFS is unable to calculate the Amendment 80 sector halibut PSC limit for the proposed 2025 and 2026 harvest specifications and therefore proposes a roll-over from last year's 2024 and 2025 harvest specifications of 1,396 mt. NMFS will update the final halibut PSC limit for the Amendment 80 sector, as well as the total halibut PSC limit for the BSAI, in the final 2025 and 2026 harvest specifications.

Table 9—Proposed 2025 and 2026 Herring and Red King Crab Savings Subarea Prohibited Species Catch Allowances for All Trawl Sectors
Fishery categories | Herring (mt) BSAI | Red king crab (animals) Zone 1
Yellowfin sole | 147 | n/a
Rock sole/flathead sole/Alaska plaice/other flatfish ¹ | 73 | n/a
Greenland turbot/arrowtooth flounder/Kamchatka flounder/sablefish | 7 | n/a
Rockfish | 7 | n/a
Pacific cod | 13 | n/a
Midwater trawl pollock | 2,257 | n/a
Pollock/Atka mackerel/other species 2 3 | 30 | n/a
2024 Red king crab savings subarea non-pelagic trawl gear ⁴ | n/a | 24,250
Total trawl PSC | 2,535 | 97,000
¹ “Other flatfish” for PSC monitoring includes all flatfish species, except for halibut (a prohibited species), Alaska plaice, arrowtooth flounder, flathead sole, Greenland turbot, Kamchatka flounder, rock sole, and yellowfin sole.
² Pollock other than midwater trawl pollock, Atka mackerel, and “other species” fishery category.
³ “Other species” for PSC monitoring includes skates, sharks, and octopuses.
⁴ In October 2024, the Council recommended and NMFS proposes that the red king crab bycatch limit within the RKCSS be limited to 25 percent of the red king crab PSC limit (see § 679.21(e)(3)(ii)(B)(2)).
Note: Species apportionments may not total precisely due to rounding.

Table 10-Proposed 2025 Prohibited Species Bycatch Allowances for the BSAI Trawl Limited Access Sectors and Pacific Cod Trawl Cooperative Program
BSAI trawl limited access sector fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 265 | 23,337 | 3,521,726 | 346,228 | 1,185,500
Rock sole/flathead sole/other flatfish ² |  |  | 0 |  |
Greenland turbot/arrowtooth flounder/Kamchatka flounder/sablefish |  |  | 0 |  |
Rockfish, April 15-December 31 | 5 |  | 2,971 |  | 1,000
Total Pacific cod ³ | 300 | 2,955 | 148,531 | 60,000 | 50,000
AFA CP Pacific cod | 6 | 278 | 13,962 | 5,640 | 4,700
PCTC Program Pacific cod, A and B season | 209 | 1,653 | 83,097 | 33,567 | 27,973
Trawl CV Pacific cod, C season | 15 | 134 | 6,728 | 2,718 | 2,265
PCTC Program unallocated reduction | 70 | 890 | 44,744 | 18,075 | 15,062
Pollock/Atka mackerel/other species ⁴ | 175 | 197 | 14,854 | 5,000 | 5,000
Total BSAI trawl limited access sector PSC | 745 | 26,489 | 3,688,082 | 411,228 | 1,241,500
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ With the implementation of the PCTC Program, the BSAI trawl limited access sector Pacific cod PSC limits for halibut and crab are split between AFA CPs, PCTC A and B-season for trawl CVs, and open access C-season. NMFS will apply a 25 percent reduction to the A and B season trawl CV sector halibut PSC limit in the annual harvest specifications after the Council recommends and NMFS approves the BSAI trawl limited access sector's PSC limit apportionments to fishery categories including the Pacific cod fishery category. In addition, NMFS will apply a 35 percent reduction to the A and B season trawl CV sector crab PSC limit. Any amount of the PCTC Program halibut or crab PSC limits remaining after the B season may be reapportioned to the trawl CV open access fishery in the C season. Because the annual PSC limits for the PCTC Program are not a fixed amount established in regulation and, instead, are determined annually through the harvest specification process, NMFS must apply the reduction to the A and B season apportionment of the trawl CV sector apportionment to implement the overall PSC reductions under the PCTC Program.
⁴ “Other species” for PSC monitoring includes skates, sharks, and octopuses.
Note: Species apportionments may not total precisely due to rounding.

Table 11—Proposed 2025 and 2026 Halibut Prohibited Species Bycatch Allowances for Non-Trawl Fisheries
Halibut mortality (mt) BSAI: Non-trawl fisheries | Halibut mortality (mt) BSAI: Seasons | Halibut mortality (mt) BSAI: Catcher/processor | Halibut mortality (mt) BSAI: Catcher vessel | Halibut mortality (mt) BSAI: All non-trawl
Pacific cod | Annual Pacific cod | 648 | 13 | 661
| January 1-June 10 | 388 | 9 | n/a
| June 10-August 15 | 162 | 2 | n/a
| August 15-December 31 | 98 | 2 | n/a
Non-Pacific cod non-trawl-Total | May 1-December 31 | n/a | n/a | 49
Groundfish pot and jig | n/a | n/a | n/a | Exempt
Sablefish hook-and-line | n/a | n/a | n/a | Exempt
Total for all non-trawl PSC | n/a | n/a | n/a | 710

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report (see ADDRESSES).

In 2016, the DMR estimation methodology underwent revisions per the Council's recommendation. A halibut working group (IPHC, Council, and NMFS staff) developed improved estimation methods that have undergone review by the Plan Team, SSC, and the Council. A summary of the revised methodology is included in the BSAI proposed 2017 and 2018 harvest specifications (81 FR 87863, December 6, 2016), and the comprehensive discussion of the working group's statistical methodology is available from the Council (see ADDRESSES). The DMR working group's revised methodology is intended to improve estimation accuracy, transparency, and transferability used for calculating DMRs. The working group will continue to consider improvements to the methodology used to calculate halibut mortality, including potential changes to the reference period (the period of data used for calculating the DMRs). The methodology will continue to ensure that NMFS is using DMRs that more accurately reflect halibut mortality, which will inform the different sectors of their estimated halibut mortality and allow specific sectors to respond with methods that could reduce mortality and, eventually, the DMR for that sector.

At the October 2024 meeting, the SSC, AP, and Council recommended halibut DMRs derived from the revised methodology, and NMFS proposes DMRs calculated under the revised methodology. Comparing the proposed 2025 and 2026 DMRs to the final DMRs from the 2024 and 2025 harvest specifications, the DMR for pelagic trawl gear remained at 100 percent, the DMR for motherships and CPs using non-pelagic trawl gear increased 1 percent, the DMR for CVs using non-pelagic trawl gear increased 4 percent, the DMR for CPs using hook-and-line gear increased 2 percent, the DMR for CVs using hook-and-line gear increased 2 percent, and the DMR for pot gear decreased 5 percent. Table 12 lists the proposed 2025 and 2026 DMRs.

Table 12—Proposed 2025 and 2026 Pacific Halibut Discard Mortality Rates (DMR) for the BSAI
Gear | Sector | Halibut discard mortality rate (percent)
Pelagic trawl | All | 100
Non-pelagic trawl | Mothership and catcher/processor | 86
Non-pelagic trawl | Catcher vessel | 67
Hook-and-line | Catcher vessel | 9
Hook-and-line | Catcher/processor | 9
Pot | All | 21

Listed AFA CP Sideboard Limits

Pursuant to § 679.64(a), the Regional Administrator is responsible for restricting the ability of listed AFA CPs to engage in directed fishing for groundfish species other than pollock to protect participants in other groundfish fisheries from adverse effects resulting from the AFA fishery and from fishery cooperatives in the directed pollock fishery. These restrictions are set as sideboard limits on catch. On February 8, 2019, NMFS published a final rule (84 FR 2723) that implemented regulations to prohibit non-exempt AFA CPs from directed fishing for all groundfish species or species groups subject to sideboard limits (see § 679.20(d)(1)(iv)(D) and table 54 to 50 CFR part 679). NMFS proposes to exempt AFA CPs from a yellowfin sole sideboard limit pursuant to § 679.64(a)(1)(v) because the proposed 2025 and 2026 aggregate ITAC of yellowfin sole assigned to the Amendment 80 sector and BSAI trawl limited access sector is greater than 125,000 mt.

Section 679.64(a)(2) and tables 40 and 41 to 50 CFR part 679 establish a formula for calculating PSC sideboard limits for halibut and crab caught by listed AFA CPs. The basis for these sideboard limits is described in detail in the final rules implementing the major provisions of the AFA (67 FR 79692, December 30, 2002) and Amendment 80 (72 FR 52668, September 14, 2007). PSC species listed in table 13 that are caught by listed AFA CPs participating in any groundfish fishery other than pollock will accrue against the proposed 2025 and 2026 PSC sideboard limits for the listed AFA CPs. Section 679.21(b)(4)(iii), (e)(3)(v), and (e)(7) authorize NMFS to close directed fishing for groundfish other than pollock for listed AFA CPs once a 2025 or 2026 PSC sideboard limit listed in table 13 is reached. Pursuant to § 679.21(b)(1)(ii)(C) and (e)(3)(ii)(C), halibut or crab PSC by listed AFA CPs while fishing for pollock will accrue against the PSC allowances annually specified for the pollock/Atka mackerel/“other species” fishery categories, according to § 679.21(b)(1)(ii)(B) and (e)(3)(iv).

Table 13—Proposed 2025 and 2026 BSAI American Fisheries Act Listed Catcher/Processor Prohibited Species Sideboard Limits
PSC species and area ¹ | Ratio of PSC to total PSC | Proposed 2025 and 2026 PSC available to trawl vessels after subtraction of PSQ ² | Proposed 2025 and 2026 CP sideboard limit ²
Halibut mortality BSAI | n/a | n/a | 286
Red king crab Zone 1 | 0.007 | 86,621 | 606
C. opilio (COBLZ) | 0.153 | 11,475,050 | 1,755,683
C. bairdi Zone 1 | 0.140 | 875,140 | 122,520
C. bairdi Zone 2 | 0.050 | 2,652,210 | 132,611
¹ Refer to § 679.2 for definitions of areas.
² Halibut amounts are in metric tons of halibut mortality. Crab amounts are in numbers of animals.

AFA CV Sideboard Limits

The Regional Administrator is responsible for restricting the ability of listed AFA CVs to engage in directed fishing for groundfish species other than pollock to protect participants in other groundfish fisheries from adverse effects resulting from the AFA and from fishery cooperatives in the pollock directed fishery. These restrictions are set out as sideboard limits on catch. Section 679.64(b)(3) and (b)(4) and tables 40 and 41 to 50 CFR part 679 establish formulas for setting AFA CV groundfish and halibut and crab PSC sideboard limits for the BSAI. The basis for these sideboard limits is described in detail in the final rules implementing the major provisions of the AFA (67 FR 79692, December 30, 2002), Amendment 80 (72 FR 52668, September 14, 2007), and amendment 122 (88 FR 53704, August 8, 2023). NMFS proposes to exempt AFA CVs from a yellowfin sole sideboard limit pursuant to § 679.64(b)(6) because the proposed 2025 and 2026 aggregate ITAC of yellowfin sole assigned to the Amendment 80 sector and BSAI trawl limited access sector is greater than 125,000 mt.

On February 8, 2019, NMFS published a final rule (84 FR 2723) that implemented regulations to prohibit non-exempt AFA CVs from directed fishing for a majority of the groundfish species or species groups subject to sideboard limits (see § 679.20(d)(1)(iv)(D) and table 55 to 50 CFR part 679). The only remaining sideboard limit for non-exempt AFA CVs is for Pacific cod. Pursuant to amendment 122 to the FMP, the Pacific cod sideboard limit is no longer necessary in the A and B seasons because directed fishing in the BSAI for Pacific cod by trawl CVs is now managed under the PCTC Program, and accordingly the sideboard limit is in effect in the C season only (§ 679.64(b)(3)(ii)). Table 14 lists the proposed 2025 and 2026 AFA CV Pacific cod sideboard limits.

Table 14—Proposed 2025 and 2026 BSAI Pacific Cod Sideboard Limits for American Fisheries Act Catcher Vessels (CVs)
[Amounts are in metric tons]
Fishery by area/gear/season | Ratio of 1997 AFA CV catch to TAC | 2025 and 2026 initial TAC for C Season | 2025 and 2026 AFA catcher vessel sideboard limits
BSAI | n/a | n/a | n/a
Trawl gear CV | n/a | n/a | n/a
C Season Jun 10-Nov 1 | 0.8609 | 4,124 | 3,550
Note: As proposed, § 679.64(b)(6) would exempt AFA CVs from a yellowfin sole sideboard limit because the proposed 2025 and 2026 aggregate ITAC of yellowfin sole assigned to the Amendment 80 sector and BSAI trawl limited access sector is greater than 125,000 mt.

Halibut and crab PSC limits listed in table 15 that are caught by AFA CVs participating in any groundfish fishery other than pollock will accrue against the 2025 and 2026 PSC sideboard limits for the AFA CVs. Section 679.21(b)(4)(iii), (e)(3)(v), and (e)(7) authorize NMFS to close directed fishing for groundfish other than pollock for AFA CVs once a 2025 or 2026 PSC sideboard limit listed in table 15 is reached. Pursuant to § 679.21(b)(1)(ii)(C) and (e)(3)(ii)(C), halibut or crab PSC by AFA CVs while fishing for pollock will accrue against the PSC allowances annually specified for the pollock/Atka mackerel/“other species” fishery categories, according to § 679.21(b)(1)(ii)(B) and (e)(3)(iv).

Table 15—Proposed 2025 and 2026 American Fisheries Act Catcher Vessel Prohibited Species Catch Sideboard Limits for the BSAI ¹
PSC species and area ¹ | Target fishery category ² | AFA catcher vessel PSC sideboard limit ratio | Proposed 2025 and 2026 PSC limit after subtraction of PSQ reserves ³ | Proposed 2025 and 2026 AFA catcher vessel PSC sideboard limit ³
Halibut | Pacific cod trawl | n/a | n/a | n/a
| Pacific cod hook-and-line or pot | n/a | n/a | 2
| Yellowfin sole total | n/a | n/a | 101
| Rock sole/flathead sole/Alaska plaice/other flatfish ⁴ | n/a | n/a | 228
| Greenland turbot/arrowtooth flounder/Kamchatka flounder/sablefish | n/a | n/a |
| Rockfish | n/a | n/a | 2
| Pollock/Atka mackerel/other species ⁵ | n/a | n/a | 5
Red king crab Zone 1 | n/a | 0.2990 | 86,621 | 25,900
C. opilio COBLZ | n/a | 0.1680 | 11,475,050 | 1,927,808
C. bairdi Zone 1 | n/a | 0.3300 | 875,140 | 288,796
C. bairdi Zone 2 | n/a | 0.1860 | 2,652,210 | 493,311
¹ Refer to § 679.2 for definitions of areas and zones.
² Target fishery categories are defined at § 679.21(b)(1)(ii)(B) and (e)(3)(iv).
³ Halibut amounts are in metric tons of halibut mortality. Crab amounts are in numbers of animals.
⁴ “Other flatfish” for PSC monitoring includes all flatfish species, except for halibut (a prohibited species), Alaska plaice, arrowtooth flounder, flathead sole, Greenland turbot, Kamchatka flounder, rock sole, and yellowfin sole.
⁵ “Other species” for PSC monitoring includes skates, sharks, and octopuses.

Classification

NMFS is issuing this proposed rule pursuant to section 305(d) of the Magnuson-Stevens Act. Through previous actions, the FMP and regulations authorize NMFS to take this action (see 50 CFR part 679). The NMFS Assistant Administrator has preliminarily determined that the proposed harvest specifications are consistent with the FMP, the Magnuson-Stevens Act, and other applicable laws, subject to further review and consideration after public comment.

This action is authorized under 50 CFR 679.20 and is exempt from review under Executive Order 12866 because it only implements annual catch limits in the BSAI.

NMFS prepared an EIS for the Alaska groundfish harvest specifications and alternative harvest strategies (see ADDRESSES) and made it available to the public on January 12, 2007 (72 FR 1512). On February 13, 2007, NMFS issued the ROD for the Final EIS. A SIR is being prepared for the final 2025 and 2026 harvest specifications to address the need to prepare a Supplemental EIS (40 CFR 1502.9(d)(1)). Copies of the Final EIS, ROD, and annual SIRs for this action are available from NMFS (see ADDRESSES). The Final EIS analyzes the environmental, social, and economic consequences of alternative harvest strategies on resources in the action area. Based on the analysis in the Final EIS, NMFS concluded that the preferred alternative (Alternative 2) provides the best balance among relevant environmental, social, and economic considerations and allows for continued management of the groundfish fisheries based on the most recent, best scientific information.

Initial Regulatory Flexibility Analysis

This Initial Regulatory Flexibility Analysis (IRFA) was prepared for this proposed rule, as required by Section 603 of the Regulatory Flexibility Act (RFA) (5 U.S.C. 603), to describe the economic impact this proposed rule, if adopted, would have on small entities. The IRFA describes the action; the reasons why this proposed rule is proposed; the objectives and legal basis for this proposed rule; the estimated number and description of directly regulated small entities to which this proposed rule would apply; the recordkeeping, reporting, and other compliance requirements of this proposed rule; and the relevant Federal rules that may duplicate, overlap, or conflict with this proposed rule. The IRFA also describes significant alternatives to this proposed rule that would accomplish the stated objectives of the Magnuson-Stevens Act, and any other applicable statutes, and that would minimize any significant economic impact of this proposed rule on small entities. The description of the proposed action, its purpose, and the legal basis are explained earlier in the preamble and are not repeated here.

For RFA purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates), and has combined annual gross receipts not in excess of $11 million for all its affiliated operations worldwide. A shoreside and mothership processor primarily involved in seafood processing (NAICS code 311710) is classified as a small business if it is independently owned and operated, is not dominant in its field of operation (including its affiliates), and has combined annual employment, counting all individuals employed on a full-time, part-time, or other basis, not in excess of 750 employees for all its affiliated operations worldwide.

Number and Description of Small Entities Regulated by This Proposed Rule

The entities directly regulated by the groundfish harvest specifications include: (a) entities operating vessels with groundfish Federal fisheries permits (FFPs) catching FMP groundfish in Federal waters (including those receiving direction allocations of groundfish); (b) all entities operating vessels, regardless of whether they hold groundfish FFPs, catching FMP groundfish in the State-waters parallel fisheries; and (c) all entities operating vessels fishing for halibut inside 3 nautical miles of the shore (whether or not they have FFPs). In 2023 (the most recent year of complete data), there were 119 individual CVs and CPs with gross revenues less than or equal to $11 million as well as 6 CDQ groups. This represents the potential suite of directly regulated small entities. This includes an estimated 116 small CV and 3 small CP entities in the BSAI groundfish sector. The determination of entity size is based on vessel revenues and affiliated group revenues. This determination also includes an assessment of fisheries cooperative affiliations, although actual vessel ownership affiliations have not been completely established. However, the estimate of these 116 CVs may be an overstatement of the number of small entities, as some of these vessels may be affiliated with large entities. This latter group of vessels had average gross revenues that varied by gear type. Average gross revenues for hook-and-line CVs, pot gear CVs, and trawl gear CVs are estimated to be $910,000, $1.5 million, and $2.3 million, respectively. Average gross revenues for CP entities are confidential. There are 3 AFA cooperative affiliated motherships, which appear to fall under the 750 worker threshold and are therefore small entities. The average gross revenues for the AFA motherships are confidential.

Description of Significant Alternatives That Minimize Adverse Impacts on Small Entities

The action under consideration is comprised of the proposed 2025 and 2026 harvest specifications, apportionments, and prohibited species catch limits for the groundfish fishery of the BSAI. This action is necessary to establish harvest limits for groundfish during the 2025 and 2026 fishing years and is taken in accordance with the FMP prepared and recommended by the Council pursuant to the Magnuson-Stevens Act. The establishment of the proposed harvest specifications is governed each year by the harvest strategy for the catch of groundfish in the BSAI. This strategy was selected from among five alternatives, with the preferred alternative harvest strategy being one in which the TACs are set to levels that fall within the range of ABCs recommended by the SSC through the harvest specifications process, and the sum of the TACs must achieve the OY specified in the FMP and in regulation. While the specific numbers that the harvest strategy produces may vary from year to year, the methodology used for the preferred harvest strategy remains constant.

The TACs associated with the preferred harvest strategy are those recommended by the Council in October 2024. OFLs and ABCs for the species were based on recommendations prepared by the Council's Plan Team in September 2024 and reviewed by the Council's SSC in October 2024. The Council based its TAC recommendations on those of its AP, which were consistent with the SSC's OFL and ABC recommendations. The sum of all TACs remains within the OY for the BSAI consistent with § 679.20(a)(1)(i)(A). Because setting all TACs equal to ABCs would cause the sum of TACs to exceed an OY of 2 million mt, TACs for some species or species groups are lower than the ABCs recommended by the Plan Team and the SSC.

The proposed 2025 and 2026 OFLs and ABCs are based on the best available biological information, including projected biomass trends, information on assumed distribution of stock biomass, and revised technical methods to calculate stock biomass. The proposed 2025 and 2026 TACs are based on the best available biological and socioeconomic information. The proposed 2025 and 2026 OFLs, ABCs, and TACs are consistent with the biological condition of groundfish stocks as described in the 2023 SAFE report, which is the most recent, completed SAFE report.

Under this action, the proposed ABCs reflect harvest amounts that are less than the specified overfishing levels. The proposed TACs are within the range of proposed ABCs recommended by the SSC and do not exceed the biological limits recommended by the SSC (the ABCs and OFLs). For some species and species groups in the BSAI, the Council recommended, and NMFS proposes, proposed TACs equal to proposed ABCs, which is intended to maximize harvest opportunities in the BSAI.

However, NMFS cannot set TACs for all species in the BSAI equal to their ABCs due to the constraining OY limit of 2 million mt. For this reason, some proposed TACs are less than the proposed ABCs. The specific reductions were reviewed and recommended by the Council's AP, and the Council in turn adopted the AP's TAC recommendations in making its own recommendations for the proposed 2025 and 2026 TACs.

Based upon the best scientific data available, and in consideration of the objectives of this action, it appears that there are no significant alternatives to the proposed rule that have the potential to accomplish the stated objectives of the Magnuson-Stevens Act and any other applicable statutes and that have the potential to minimize any significant adverse economic impact of the proposed rule on small entities. This action is economically beneficial to entities operating in the BSAI, including small entities. The action proposes TACs for commercially-valuable species in the BSAI and allows for the continued prosecution of the fishery, thereby creating the opportunity for fishery revenue. After public process during which the Council solicited input from stakeholders, the Council recommended the proposed harvest specifications, which NMFS determines would best accomplish the stated objectives articulated in the preamble for this proposed rule, and in applicable statutes, and would minimize to the extent practicable adverse economic impacts on the universe of directly regulated small entities.

This action does not modify recordkeeping or reporting requirements, or duplicate, overlap, or conflict with any Federal rules.

This proposed rule contains no information collection requirements under the Paperwork Reduction Act of 1995.

Adverse impacts on marine mammals or endangered or threatened species resulting from fishing activities conducted under these harvest specifications are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 29, 2024.
Samuel D. Rauch III,
Deputy Assistant Administrator for Regulatory Programs, National Marine Fisheries Service.

[FR Doc. 2024-28414 Filed 12-3-24; 8:45 am]

BILLING CODE 3510-22-P